DEPARTMENT OF ENERGY

Federal Energy Regulatory Commission

[Docket No. RP01-233-001]

Questar Pipeline Company; Notice of Tariff Filing

May 31, 2001.

Take notice that on May 23, 2001, Questar Pipeline Company (Questar) tendered for filing as part of its FERC Gas Tariff, First Revised Volume No. 1, the following tariff sheets, with an effective date of March 23, 2001:

Substitute Sixth Revised Sheet No. 52

Substitute Fifth Revised Sheet No. 56

Substitute Second Revised Sheet No. 56A

Substitute Sixth Revised Sheet No. 79

On February 21, 2001, Questar filed tariff sheets in Docket No. RP01-233-000 that were approved by Commission letter order issued March 28, 2001, to be effective March 23, 2001. This filing reflects repagination of tariff sheets due to the inclusion of language approved in two subsequent proceedings.

Questar states that a copy of this filing has been served upon its customers, the Public Service Commission of Utah, and the Public Service Commission of Wyoming.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make prostestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-14204 Filed 6-5-01; 8:45 am]

BILLING CODE 6717-01-M